POSTAL REGULATORY COMMISSION

Notice Initiating Docket(s) for Recent Postal Service Negotiated Service Agreement Filings

(Issued September 5, 2024)

| Docket No.
Competitive Product Prices: | MC2024-610
Priority Mail Express, Priority Mail & USPS
Ground Advantage Contracts
Priority Mail Express, Priority Mail & USPS
Ground Advantage Contract 291
Competitive Product Prices: | CP2024-618
Priority Mail Express, Priority Mail & USPS
Ground Advantage Contract 291 (MC2024-610)
Negotiated Service Agreements
Competitive Product Prices: | MC2024-611
Priority Mail Express, Priority Mail & USPS
Ground Advantage Contracts
Priority Mail Express, Priority Mail & USPS
Ground Advantage Contract 292
Competitive Product Prices: | CP2024-619
Priority Mail Express, Priority Mail & USPS
Ground Advantage Contract 292 (MC2024-611)
Negotiated Service Agreements
Competitive Product Prices: | MC2024-612
Priority Mail Express, Priority Mail & USPS
Ground Advantage Contracts
Priority Mail Express, Priority Mail & USPS
Ground Advantage Contract 293
Competitive Product Prices: | CP2024-620
Priority Mail Express, Priority Mail & USPS
Ground Advantage Contract 293 (MC2024-612)
Negotiated Service Agreements
Competitive Product Prices: | MC2024-613
Priority Mail Express, Priority Mail & USPS
Ground Advantage Contracts
Priority Mail Express, Priority Mail & USPS
Ground Advantage Contract 294
Competitive Product Prices: | CP2024-621
Priority Mail Express, Priority Mail & USPS
Ground Advantage Contract 294 (MC2024-613)
Negotiated Service Agreements
Competitive Product Prices: | MC2024-614
Priority Mail & USPS Ground Advantage Contracts
Priority Mail & USPS Ground Advantage Contract 328
Competitive Product Prices: | CP2024-622
Priority Mail & USPS Ground Advantage Contract 328 (MC2024-614)
Negotiated Service Agreements
Competitive Product Prices: | MC2024-615
Priority Mail Express, Priority Mail & USPS
Ground Advantage Contracts
Priority Mail Express, Priority Mail & USPS
Ground Advantage Contract 295
Competitive Product Prices: | CP2024-623
Priority Mail Express, Priority Mail & USPS
Ground Advantage Contract 295 (MC2024-615)
Negotiated Service Agreements
Competitive Product Prices: | MC2024-616
Priority Mail Express, Priority Mail & USPS
Ground Advantage Contracts
Priority Mail Express, Priority Mail & USPS
Ground Advantage Contract 296
Competitive Product Prices: | CP2024-624
Priority Mail Express, Priority Mail & USPS
Ground Advantage Contract 296 (MC2024-616)
Negotiated Service Agreements
Competitive Product Prices: | MC2024-617
Priority Mail Express, Priority Mail & USPS
Ground Advantage Contracts
Priority Mail Express, Priority Mail & USPS
Ground Advantage Contract 297
Competitive Product Prices: | CP2024-625
Priority Mail Express, Priority Mail & USPS
Ground Advantage Contract 297 (MC2024-617)
Negotiated Service Agreements

I. Introduction

The Commission gives notice that the Postal Service filed request(s) for the Commission to consider matters related to negotiated service agreement(s). The request(s) may propose the addition or removal of a negotiated service agreement from the Market Dominant or the Competitive product list, or the modification of an existing product currently appearing on the Market Dominant or the Competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

The Commission invites comments on whether the Postal Service's request(s) in the captioned docket(s) are consistent with the policies of title 39. For request(s) that the Postal Service states concern Market Dominant product(s), applicable statutory and regulatory requirements include 39 U.S.C. 3622, 39 U.S.C. 3642, 39 CFR part 3030, and 39 CFR part 3040, subpart B. For request(s) that the Postal Service states concern Competitive product(s), applicable statutory and regulatory requirements include 39 U.S.C. 3632, 39 U.S.C. 3633, 39 U.S.C. 3642, 39 CFR part 3035, and 39 CFR part 3040, subpart B. Comment deadline(s) for each request appear in section II.

II. Docketed Proceeding(s)

1. Docket No(s).: MC2024-610 and CP2024-618; Filing Title: USPS Request to Add Priority Mail Express, Priority Mail & USPS Ground Advantage Contract 291 to Competitive Product List and Notice of Filing Materials Under Seal; Filing Acceptance Date: September 4, 2024; Filing Authority: 39 U.S.C. 3642, 39 CFR 3040.130 through 3040.135, and 39 CFR 3035.105; Public Representative: Almaroof Agoro; Comments Due: September 12, 2024.

2. Docket No(s).: MC2024-611 and CP2024-619; Filing Title: USPS Request to Add Priority Mail Express, Priority Mail & USPS Ground Advantage Contract 292 to Competitive Product List and Notice of Filing Materials Under Seal; Filing Acceptance Date: September 4, 2024; Filing Authority: 39 U.S.C. 3642, 39 CFR 3040.130 through 3040.135, and 39 CFR 3035.105; Public Representative: Almaroof Agoro; Comments Due: September 12, 2024.

3. Docket No(s).: MC2024-612 and CP2024-620; Filing Title: USPS Request to Add Priority Mail Express, Priority Mail & USPS Ground Advantage Contract 293 to Competitive Product List and Notice of Filing Materials Under Seal; Filing Acceptance Date: September 4, 2024; Filing Authority: 39 U.S.C. 3642, 39 CFR 3040.130 through 3040.135, and 39 CFR 3035.105; Public Representative: Christopher C. Mohr; Comments Due: September 12, 2024.

4. Docket No(s).: MC2024-613 and CP2024-621; Filing Title: USPS Request to Add Priority Mail Express, Priority Mail & USPS Ground Advantage Contract 294 to Competitive Product List and Notice of Filing Materials Under Seal; Filing Acceptance Date: September 4, 2024; Filing Authority: 39 U.S.C. 3642, 39 CFR 3040.130 through 3040.135, and 39 CFR 3035.105; Public Representative: Christopher C. Mohr; Comments Due: September 12, 2024.

5. Docket No(s).: MC2024-614 and CP2024-622; Filing Title: USPS Request to Add Priority Mail & USPS Ground Advantage Contract 328 to Competitive Product List and Notice of Filing Materials Under Seal; Filing Acceptance Date: September 4, 2024; Filing Authority: 39 U.S.C. 3642, 39 CFR 3040.130 through 3040.135, and 39 CFR 3035.105; Public Representative: Arif Hafiz; Comments Due: September 12, 2024.

6. Docket No(s).: MC2024-615 and CP2024-623; Filing Title: USPS Request to Add Priority Mail Express, Priority Mail & USPS Ground Advantage Contract 295 to Competitive Product List and Notice of Filing Materials Under Seal; Filing Acceptance Date: September 4, 2024; Filing Authority: 39 U.S.C. 3642, 39 CFR 3040.130 through 3040.135, and 39 CFR 3035.105; Public Representative: Arif Hafiz; Comments Due: September 12, 2024.

7. Docket No(s).: MC2024-616 and CP2024-624; Filing Title: USPS Request to Add Priority Mail Express, Priority Mail & USPS Ground Advantage Contract 296 to Competitive Product List and Notice of Filing Materials Under Seal; Filing Acceptance Date: September 4, 2024; Filing Authority: 39 U.S.C. 3642, 39 CFR 3040.130 through 3040.135, and 39 CFR 3035.105; Public Representative: Arif Hafiz; Comments Due: September 12, 2024.

8. Docket No(s).: MC2024-617 and CP2024-625; Filing Title: USPS Request to Add Priority Mail Express, Priority Mail & USPS Ground Advantage Contract 297 to Competitive Product List and Notice of Filing Materials Under Seal; Filing Acceptance Date: September 4, 2024; Filing Authority: 39 U.S.C. 3642, 39 CFR 3040.130 through 3040.135, and 39 CFR 3035.105; Public Representative: Arif Hafiz; Comments Due: September 12, 2024.

This Notice will be published in the Federal Register.

Erica A. Barker,
Secretary.

Media Inquiries

Gail Adams

gail.adams@prc.gov

[FR Doc. 2024-20436 Filed 9-10-24; 8:45 am]

BILLING CODE P